POSTAL REGULATORY COMMISSION

[Docket No. CP2009-18; Order No. 159]

International Mail Contracts

AGENCY: Postal Regulatory Commission.

ACTION: Notice.

SUMMARY: This document announces a recently-filed Postal Service notice of an additional Global Direct Contracts agreement. It addresses procedural steps associated with this filing.

DATES: Comments are due January 5, 2009.

ADDRESSES: Submit comments electronically via the Commission's Filing Online system at http://www.prc.gov.

FOR FURTHER INFORMATION CONTACT: Stephen L. Sharfman, General Counsel, 202-789-6820 and stephen.sharfman@prc.gov.

SUPPLEMENTARY INFORMATION:

I. Background

On December 23, 2008, the Postal Service filed a notice announcing that it has entered into an additional Global Direct Contracts agreement.¹ Global Direct Contracts provide a rate for mail acceptance within the United States and transportation to a receiving country, with the addition by the customer of appropriate foreign indicia, and payment by the Postal Service of the appropriate settlement charges to the receiving country. The Postal Service believes the instant agreement is functionally equivalent to previously submitted Global Direct Contracts agreements, and supported by the Governors' Decision filed in Docket No. MC2008-7.² The Postal Service contends that the instant agreement should be included within the Global Direct Contracts product.

¹ Notice of United States Postal Service Filing of Functionally Equivalent Global Direct Contracts Negotiated Service Agreement, December 23, 2008 (Notice).

² Notice at 1-2. See Docket No. MC2008-7, Request of the United States Postal Service to Add Global Plus 2 Negotiated Service Agreements to the Competitive Product List, and Notice of Filing (Under Seal) the Enabling Governors' Decision and Two Functionally Equivalent Agreements, Attachment A, August 8, 2008, for a redacted version of Decision of the Governors of the United States Postal Service on the Establishment of Prices and Classifications for Global Direct, Global Bulk Economy, and Global Plus Contracts (Governors' Decision No. 08-10), July 16, 2008. The Postal Service also filed under seal an unredacted version of the Governors' Decision in that docket.

The instant contract. The Postal Service filed the instant agreement pursuant to 39 CFR 3015.5. In addition, the Postal Service contends that the agreement is in accordance with PRC Order No. 153. It submitted the contract and supporting material under seal, and attached a redacted copy of the certified statement required by 39 CFR 3015.5(c)(2) to the Notice.

The Notice identifies the instant agreement as fitting within the Mail Classification Schedule language for Global Direct Contracts, and indicates that this agreement is set to expire no later than January 31, 2010.³ The Notice discusses the Postal Service's interest in the confidential treatment of the contract and related material. Id. at 2-3. The Notice also provides the Postal Service's rationale for concluding that the instant contract is functionally equivalent to the initial contracts filed in Docket Nos. CP2009-10 and CP2009-11. Id. at 2-6.

³ The Postal Service also states that this agreement has the same duration, basically a one-year period, as the previously approved Global Direct Contracts agreements. Notice at 5.

II. Notice of Filing

The Commission establishes Docket No. CP2009-18 for consideration of matters related to the agreement identified in the Postal Service's Notice.

Interested persons may submit comments on whether the Postal Service's agreement is consistent with the policies of 39 U.S.C. 3632, 3633, or 3642. Comments are due no later than January 5, 2009. The public portions of these filings can be accessed via the Commission's Web site (http://www.prc.gov).

The Commission appoints Michael J. Ravnitzky to serve as Public Representative in the captioned filings.

III. Ordering Paragraphs

It is Ordered:

1. The Commission establishes Docket No. CP2009-18 for consideration of the matters raised in this docket.

2. Pursuant to 39 U.S.C. 505, Michael J. Ravnitzky is appointed to serve as officer of the Commission (Public Representative) to represent the interests of the general public in these proceedings.

3. Comments by interested persons in these proceedings are due no later than January 5, 2009.

4. The Secretary shall arrange for publication of this Order in the Federal Register.

By the Commission.
Steven W. Williams,
Secretary.

[FR Doc. E8-31374 Filed 1-2-09; 8:45 am]

BILLING CODE 7710-FW-P